SECURITIES AND EXCHANGE COMMISSION

Sunshine Act Meetings

TIME AND DATE: Notice is hereby given, pursuant to the provisions of the Government in the Sunshine Act, Public Law 94-409, that the Securities and Exchange Commission will hold an Open Meeting on Wednesday, October 26, 2022 at 10:00 a.m.

PLACE: The meeting will be webcast on the Commission's website at www.sec.gov.

STATUS: This meeting will begin at 10:00 a.m. (ET) and will be open to the public via webcast on the Commission's website at www.sec.gov.

MATTERS TO BE CONSIDERED:

1. The Commission will consider whether to adopt final rules to implement of Section 10D of the Securities Exchange Act of 1934, as added by Section 954 of the Dodd-Frank Wall Street Reform and Consumer Protection Act.

2. The Commission will consider whether to adopt rule and form amendments that would require open-end management investment companies to transmit concise and visually engaging annual and semi-annual reports directly to shareholders that highlight key information for investors. The Commission also will consider whether to amend the advertising rules for registered investment companies and business development companies.

3. The Commission will consider whether to propose a new rule under the Investment Advisers Act of 1940 to establish minimum and consistent oversight requirements for registered investment advisers that outsource certain services or functions to service providers, and whether to propose amendments to related recordkeeping and Form ADV reporting requirements.

CONTACT PERSON FOR MORE INFORMATION: For further information and to ascertain what, if any, matters have been added, deleted or postponed, please contact Vanessa A. Countryman from the Office of the Secretary at (202) 551-5400.

Authority: 5 U.S.C. 552b.

Dated: October 19, 2022.
Vanessa A. Countryman,
Secretary.

[FR Doc. 2022-23081 Filed 10-19-22; 4:15 pm]

BILLING CODE 8011-01-P